FEDERAL COMMUNICATIONS COMMISSION

Radio Broadcasting Services; AM or FM Proposals To Change The Community of License

AGENCY: Federal Communications Commission.

ACTION: Notice.

SUMMARY: The following applicants filed AM or FM proposals to change the community of license: ALEX MEDIA, INC., Station NEW, Facility ID 189557, BMPH-20121002ACH, From MCCALL, ID, To HUNTINGTON, OR; GATEWAY RADIO WORKS, INC., Station WKYN, Facility ID 23345, BPH-20121002ACW, From OWINGSVILLE, KY, To MOUNT STERLING, KY; GENESIS COMMUNICATIONS OF TAMPA BAY, INC., Station WMGG, Facility ID 67135, BP-20120808ABK, From DUNEDIN, FL, To EGYPT LAKE, FL.

DATES: The agency must receive comments on or before January 7, 2013.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm.

A copy of this application may also be purchased from the Commission's duplicating contractor, Best Copy and Printing, Inc., 445 12th Street SW., Room CY-B402, Washington, DC 20554, telephone 1-800-378-3160 or www.BCPIWEB.com.

Federal Communications Commission.
James D. Bradshaw,
Deputy Chief, Audio Division, Media Bureau.

[FR Doc. 2012-27194 Filed 11-6-12; 8:45 am]

BILLING CODE 6712-01-P